DEPARTMENT OF THE INTERIOR

Notice of Intent To Negotiate Agreements Among the Central Utah Water Conservancy District, Sanpete Water Conservancy District, Sanpete County, and Department of the Interior for Implementation of Projects in Sanpete County, UT

AGENCY: Office of the Assistant Secretary—Water and Science, Department of the Interior.

ACTION: Notice of intent to negotiate agreements among the Central Utah Water Conservancy District (CUWCD), Sanpete Water Conservancy District, Sanpete County, and the Department of the Interior for implementation of Projects in Sanpete County, Utah.

SUMMARY: Public Law 102-575, Section 206(a)(1) provides:

After two years from the date of enactment of this Act, the District shall, at the option of an eligible county as provided in paragraph (2), rebate to such county all of the ad valorem tax contributions paid by such county to the District, with interest but less the value of any benefits received by such county and less the administrative expenses incurred by the District to that date.

Sanpete County desires to pursue local water development projects and is requesting a rebate of a portion of the ad valorem taxes it has paid to CUWCD, plus interest, to provide the required 35 percent local funding for such projects.

In a letter dated October 7, 1996, Sanpete County requested federal funding, equal to 65 percent of the costs as set forth in section 206(b)(1), to implement the projects. Section 206(b)(1) states:

Upon the request of any eligible county that elects not to participate in the project as provided in subsection (a), the Secretary shall provide as a grant to such county an amount that, when matched with the rebate received by such county, shall constitute 65 percent of the cost of implementation of measures identified in paragraph (2).

Sanpete County, located within the Sevier River Basin in Central Utah, is requesting federal funding for the Mayfield New Well Project and the Axtell Culinary Water System Improvement Project. Both projects are municipal improvement projects intended to increase the reliability and stability of their existing culinary water systems. Two agreements will be negotiated—one to provide funding for the Mayfield Project and the other for the Axtell Project.

DATES: Dates for public negotiation sessions will be announced in local newspapers.

FOR FURTHER INFORMATION CONTACT: Additional information on matters related to this Federal Register notice can be obtained at the address and telephone number set forth below: Reed Murray, CUP Completion Act Office, Department of the Interior, 302 East 1860 South, Provo, UT 84606-6154, (801) 379-1237, rmurray@uc.usbr.gov.

Dated: October 13, 2000.
Ronald Johnston,
CUP Program Director, Department of the Interior.

[FR Doc. 00-29045 Filed 11-13-00; 8:45 am]

BILLING CODE 4310-RK-U